DEPARTMENT OF DEFENSE

Office of the Secretary of Defense

Privacy Act of 1974; Systems of Records

AGENCY: Defense Logistics Agency, DOD.

ACTION: Notice to Delete a System of Records.

SUMMARY: The Defense Logistics Agency is deleting a system of records notice to its existing inventory of record systems subject to the Privacy Act of 1974 (5 U.S.C. 552a), as amended.

DATES: This action will be effective without further notice on August 6, 2007 unless comments are received that would result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Jody Sinkler at (703) 767-5045.

SUPPLEMENTARY INFORMATION: The Defense Logistics Agency notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974 (5 U.S.C. 552a), as amended, which requires the submission of a new or altered system report.

Dated: June 28, 2007.
C.R. Choate,
Alternate OSD Federal Register Liaison Officer, Department of Defense.

Deletion

S850.10 DCMC-Q

System name:

Contractor Flight Operations (November 16, 2004, 69 FR 67112).

Reason:

The mission was transferred to Defense Contract Management Agency. Therefore, required the deletion of system of records notice from Defense Logistic Agency's inventory.

Defense Contract Management Agency printed in the Federal Register as PDCMA 1 DoD, Contractor's Flight and Ground Operations on May 25, 2007 with the Federal Register number as 72 FR 29307.

[FR Doc. E7-13089 Filed 7-5-07; 8:45 am]

BILLING CODE 5001-06-P